DEPARTMENT OF COMMERCE

International Trade Administration

[A-533-840]

Certain Frozen Warmwater Shrimp From India: Final Results and Partial Rescission of Antidumping Duty Administrative Review

AGENCY: Import Administration, International Trade Administration, Department of Commerce.

SUMMARY: On March 9, 2009, the Department of Commerce (the Department) published the preliminary results of the administrative review of the antidumping duty order on certain frozen warmwater shrimp (shrimp) from India. This review covers 156 producers/exporters ¹ of the subject merchandise to the United States. The period of review (POR) is February 1, 2007, through January 31, 2008.

¹ Collapsed entities are treated as one producer/exporter.

After analyzing the comments received, we have made no changes in the margin calculations. Therefore, the final results do not differ from the preliminary results. The final weighted-average dumping margins for the reviewed firms are listed below in the section entitled “Final Results of Review.”

DATES: Effective Date: July 13, 2009.

FOR FURTHER INFORMATION CONTACT: Elizabeth Eastwood or Henry Almond, AD/CVD Operations, Office 2, Import Administration, International Trade Administration, U.S. Department of Commerce, 14th Street and Constitution Avenue, NW., Washington, DC 20230; telephone (202) 482-3874 or (202) 482-0049, respectively.

SUPPLEMENTARY INFORMATION:

Background

This review covers 156 producers/exporters. The respondents which the Department selected for individual review are Devi Sea Foods Limited (Devi) and Falcon Marine Exports Limited (Falcon). The respondents which were not selected for individual review are listed in the “Final Results of Review” section of this notice.

On March 9, 2009, the Department published in the Federal Register the preliminary results of administrative review of the antidumping duty order on shrimp from India. See Certain Frozen Warmwater Shrimp From India: Preliminary Results and Preliminary Partial Rescission of Antidumping Duty Administrative Review, 74 FR 9991 (Mar. 9, 2009) (Preliminary Results).

We invited parties to comment on our preliminary results of review. In April 2009, we received case and rebuttal briefs from the petitioner (i.e., the Ad Hoc Shrimp Trade Action Committee), a group of 32 U.S. shrimp processors,² and the two respondents selected for individual examination (i.e., Devi and Falcon).

² These companies are: (1) Bayou Shrimp Processors, Inc.; (2) Biloxi Freezing & Processing Co.; (3) CF Gollot and Son Seafood, Inc.; (4) Carson and Co., Inc.; (5) Custom Pack, Inc.; (6) Deep Sea Foods Inc./Jubilee Foods; (7) Dominick's Seafood, Inc.; (8) Dunamis Towing, Inc., (9) Fisherman's Reef Shrimp Co., Inc.; (10) Golden Gulf Coast Pkg. Co., Inc; (11) Gollott's Oil Dock and Ice House, Inc.; (12) Graham Fisheries; (13) Gulf Crown Seafood Co., Inc., (14) Gulf Fish, Inc.; (15) Gulf Pride Enterprises, Inc.; (16) Gulf Island Shrimp & Seafood, LLC; (17) Hi Seas of Dulac, Inc.; (18) JBS Packing Co., Inc.; (19) Lafitte Frozen Foods Corp.; (20) Louisiana Newpack Shrimp Co., Inc.; (21) Louisiana Shrimp & Packing Co., Inc.; (22) M&M Seafood; (23) Ocean Springs Seafood, Market, Inc.; (24) Pascagoula Ice & Freezer Co., Inc.; (25) Paul Piazza and Son, Inc.; (26) Pearl, Inc. d/b/a Indian Ridge Shrimp Co.; (27) Price Seafood, Inc.; (28) RA Lesso Brokerage Co., Inc.; (29) Sea Pearl Seafood Company, Inc., (30) Tidelands Seafood Co., Inc.; (31) Vincent Piazza Jr., & Sons Seafood, Inc.; and (32) Woods Fisheries and Country, Inc.

The Department has conducted this administrative review in accordance with section 751 of the Tariff Act of 1930, as amended (the Act).

Scope of the Order

The scope of this order includes certain frozen warmwater shrimp and prawns, whether wild-caught (ocean harvested) or farm-raised (produced by aquaculture), head-on or head-off, shell-on or peeled, tail-on or tail-off,³ deveined or not deveined, cooked or raw, or otherwise processed in frozen form.

³ “Tails” in this context means the tail fan, which includes the telson and the uropods.

The frozen warmwater shrimp and prawn products included in the scope of this order, regardless of definitions in the Harmonized Tariff Schedule of the United States (HTSUS), are products which are processed from warmwater shrimp and prawns through freezing and which are sold in any count size.

The products described above may be processed from any species of warmwater shrimp and prawns. Warmwater shrimp and prawns are generally classified in, but are not limited to, the Penaeidae family. Some examples of the farmed and wild-caught warmwater species include, but are not limited to, whiteleg shrimp (Penaeus vannemei), banana prawn (Penaeus merguiensis), fleshy prawn (Penaeus chinensis), giant river prawn (Macrobrachium rosenbergii), giant tiger prawn (Penaeus monodon), redspotted shrimp (Penaeus brasiliensis), southern brown shrimp (Penaeus subtilis), southern pink shrimp (Penaeus notialis), southern rough shrimp (Trachypenaeus curvirostris), southern white shrimp (Penaeus schmitti), blue shrimp (Penaeus stylirostris), western white shrimp (Penaeus occidentalis), and Indian white prawn (Penaeus indicus).

Frozen shrimp and prawns that are packed with marinade, spices or sauce are included in the scope of this order. In addition, food preparations, which are not “prepared meals,” that contain more than 20 percent by weight of shrimp or prawn are also included in the scope of this order.

Excluded from the scope are: (1) Breaded shrimp and prawns (HTSUS subheading 1605.20.10.20); (2) shrimp and prawns generally classified in the Pandalidae family and commonly referred to as coldwater shrimp, in any state of processing; (3) fresh shrimp and prawns whether shell-on or peeled (HTSUS subheadings 0306.23.00.20 and 0306.23.00.40); (4) shrimp and prawns in prepared meals (HTSUS subheading 1605.20.05.10); (5) dried shrimp and prawns; (6) canned warmwater shrimp and prawns (HTSUS subheading 1605.20.10.40); (7) certain dusted shrimp; and (8) certain battered shrimp. Dusted shrimp is a shrimp-based product: (1) That is produced from fresh (or thawed-from-frozen) and peeled shrimp; (2) to which a “dusting” layer of rice or wheat flour of at least 95 percent purity has been applied; (3) with the entire surface of the shrimp flesh thoroughly and evenly coated with the flour; (4) with the non-shrimp content of the end product constituting between four and 10 percent of the product's total weight after being dusted, but prior to being frozen; and (5) that is subjected to IQF freezing immediately after application of the dusting layer. Battered shrimp is a shrimp-based product that, when dusted in accordance with the definition of dusting above, is coated with a wet viscous layer containing egg and/or milk, and par-fried.

The products covered by this order are currently classified under the following HTSUS subheadings: 0306.13.00.03, 0306.13.00.06, 0306.13.00.09, 0306.13.00.12, 0306.13.00.15, 0306.13.00.18, 0306.13.00.21, 0306.13.00.24, 0306.13.00.27, 0306.13.00.40, 1605.20.10.10, and 1605.20.10.30. These HTSUS subheadings are provided for convenience and for customs purposes only and are not dispositive, but rather the written description of the scope of this order is dispositive.

Period of Review

The POR is February 1, 2007, through January 31, 2008.

Partial Rescission

In the Preliminary Results, we assigned company-specific rates to Falcon, Manufacturer Falcon Marine Exports, Sandhya Aqua Exports, and Sandhya Aqua Exports Pvt. Ltd. However, after reviewing information from the 2008-2009 review, the Department has determined that two of these company names are duplicate names of the other two companies. The correct names of the companies listed in pairs above are Falcon and Sandhya Aqua Exports Pvt. Ltd. See the May 8, 2009, memorandum from Elizabeth Eastwood to the File, entitled, “Placing Public Information from the 2008-2009 Antidumping Duty Administrative Review on the Record of the 2007-2008 Antidumping Duty Administrative Review on Certain Frozen Warmwater Shrimp from India” (Name Clarification Memo). Therefore, the Department is rescinding this review with respect to Sandhya Aqua Exports and Manufacturer Falcon Marine Exports.

Collapsing

Prior to the Preliminary Results, one of the non-mandatory respondents in this case, Ananda Aqua Exports (AAE), informed the Department that it is affiliated with Ananda Foods (AF) and Ananda Aqua Applications (AAA), producers/exporters of shrimp in India. Consequently, it requested that the Department treat it and these two companies as a single entity for purposes of this administrative review. At the Department's request, AAE, AF, and AAA (hereinafter referred to as “the Ananda Group”) provided information to support this claim. Although the Ananda Group's most recent submission, containing additional information with respect to the ownership of the three companies and the relationships among the owners, was filed in a timely manner, it was not received in time to consider for purposes of the preliminary results.

Nonetheless, in the Preliminary Results we preliminarily determined that, in accordance with 19 CFR 351.401(f), it is appropriate to collapse the companies in the Ananda Group for purposes of this proceeding because: (1) Entities within the group are affiliated and two of these entities have production facilities for identical or similar merchandise that would not require significant retooling in order to restructure manufacturing priorities; and (2) a significant potential for manipulation exists due to common ownership, overlapping management and board of directors, and intertwined operations. See Preliminary Results, 74 FR at 9994.

We have now analyzed the Ananda Group's March 2009 submission clarifying certain aspects of the companies' partners, including familial relationships of partners/owners of the three companies. Based on this additional information provided by the Ananda Group, we continue to find that it is appropriate to collapse the companies AAA, AAE, and AF into the Ananda Group, and consequently we have continued to treat these companies as a single entity for purposes of our final determination.

Cost of Production

As discussed in the preliminary results, we conducted an investigation to determine whether Devi and Falcon made third country sales of the foreign like product during the POR at prices below their costs of production (COP) within the meaning of section 773(b) of the Act. See Preliminary Results, 74 FR at 9997. For these final results, we performed the cost test following the same methodology as in the Preliminary Results.

We found 20 percent or more of each respondent's sales of a given product during the reporting period were at prices less than the weighted-average COP for this period. Thus, we determined that these below-cost sales were made in “substantial quantities” within an extended period of time and at prices which did not permit the recovery of all costs within a reasonable period of time in the normal course of trade. See sections 773(b)(1)-(2) of the Act.

Therefore, for purposes of these final results, we found that Devi and Falcon made below-cost sales not in the ordinary course of trade. Consequently, we disregarded these sales for each respondent and used the remaining sales as the basis for determining normal value pursuant to section 773(b)(1) of the Act.

Analysis of Comments Received

All issues raised in the case briefs by parties to this administrative review are listed in the Appendix to this notice and addressed in the Issues and Decision Memorandum (the Decision Memo), which is adopted by this notice. Parties can find a complete discussion of all issues raised in this review and the corresponding recommendations in this public memorandum, which is on file in the Central Records Unit, Room 1117, of the main Department building.

In addition, a complete version of the Decision Memo can be accessed directly on the Web at http://ia.ita.doc.gov/frn/. The paper copy and electronic version of the Decision Memo are identical in content.

Changes Since the Preliminary Results

Based on our analysis of the comments received, we have made no changes in the margin calculations.

Final Results of Review

We determine that the following weighted-average margin percentages exist for the period February 1, 2007, through January 31, 2008:

Manufacturer/exporter | Percent margin
Devi Sea Foods Limited | *0.39
Falcon Marine Exports Limited | 0.79
Review-Specific Average Rate Applicable to the Following Companies: ⁴
Abad Fisheries | 0.79
Accelerated Freeze-Drying Co | 0.79
Allana Frozen Foods Pvt. Ltd | 0.79
Allanasons Ltd | 0.79
AMI Enterprises | 0.79
Amulya Sea Foods | 0.79
Anand Aqua Exports | 0.79
Ananda Aqua Exports (P) Ltd./Ananda Foods/Ananda Aqua Applications | 0.79
Andaman Seafoods Pvt. Ltd | 0.79
Angelique Intl | 0.79
Anjaneya Seafoods | 0.79
Apex Exports | 0.79
Asvini Exports | 0.79
Asvini Fisheries Private Limited | 0.79
Avanti Feeds Limited | 0.79
Ayshwarya Seafood Private Limited | 0.79
Baby Marine International | 0.79
Baby Marine Sarass | 0.79
Bhatsons Aquatic Products | 0.79
Bhavani Seafoods | 0.79
Bijaya Marine Products | 0.79
Blue Water Foods & Exports P. Ltd | 0.79
Bluefin Enterprises | 0.79
Bluepark Seafoods Pvt. Ltd | 0.79
BMR Exports | 0.79
Britto Exports | 0.79
Calcutta Seafoods | 0.79
Calcutta Seafoods Pvt. Ltd | 0.79
Castlerock Fisheries Ltd | 0.79
Chemmeens (Regd) | 0.79
Choice Canning Company | 0.79
Choice Trading Corporation Pvt. Ltd | 0.79
Coastal Corporation Ltd | 0.79
Corlim Marine Exports Pvt. Ltd | 0.79
Coreline Exports | 0.79
Devi Fisheries Limited | 0.79
Digha Seafood Exports | 0.79
Esmario Export Enterprises | 0.79
Exporter Coreline Exports | 0.79
Five Star Marine Exports Private Limited | 0.79
Forstar Frozen Foods Pvt. Ltd | 0.79
Frigerio Conserva Allana Limited | 0.79
Frontline Exports Pvt. Ltd | 0.79
G A Randerian Ltd | 0.79
Gadre Marine Exports | 0.79
Galaxy Maritech Exports P. Ltd | 0.79
Gayatri Seafoods | 0.79
Geo Aquatic Products (P) Ltd | 0.79
Geo Seafoods | 0.79
Grandtrust Overseas (P) Ltd | 0.79
GVR Exports Pvt. Ltd | 0.79
HIC ABF Special Foods Pvt. Ltd | 0.79
Haripriya Marine Export Pvt. Ltd | 0.79
Hindustan Lever, Ltd | 0.79
Hiravata Ice & Cold Storage | 0.79
Hiravati Exports Pvt. Ltd | 0.79
Hiravati International Pvt. Ltd. (located at Jawar Naka, Porbandar, Gujarat—360 575, India) | 0.79
Hiravati International Pvt. Ltd. (located at APM-Mafco Yard, Sector—18 Vashi, Navi, Mumbai—400 705, India) | 0.79
IFB Agro Industries Limited | 0.79
Indian Aquatic Products | 0.79
Indo Aquatics | 0.79
Innovative Foods Limited | 0.79
International Freezefish Exports | 0.79
Interseas | 0.79
ITC Ltd | 0.79
Jagadeesh Marine Exports | 0.79
Jaya Satya Marine Exports | 0.79
Jaya Satya Marine Exports Pvt. Ltd | 0.79
Jayalakshmi Sea Foods Private Limited | 0.79
Jinny Marine Traders | 0.79
Jiya Packagings | 0.79
K R M Marine Exports Ltd | 0.79
Kalyanee Marine | 0.79
Kay Kay Exports | 0.79
Kings Marine Products | 0.79
Koluthara Exports Ltd | 0.79
Konark Aquatics & Exports Pvt. Ltd | 0.79
Libran Cold Storages (P) Ltd | 0.79
Magnum Estate Private Limited | 0.79
Magnum Export | 0.79
Magnum Sea Foods Pvt. Ltd | 0.79
Malabar Arabian Fisheries | 0.79
Malnad Exports Pvt. Ltd | 0.79
Mangala Marine Exim India Private Ltd | 0.79
Mangala Sea Products | 0.79
MSC Marine Exporters | 0.79
MTR Foods | 0.79
Naga Hanuman Fish Packers | 0.79
Naik Frozen Foods | 0.79
Navayuga Exports Ltd | 0.79
Nekkanti Sea Foods Limited | 0.79
NGR Aqua International | 0.79
Nila Sea Foods Pvt. Ltd | 0.79
Overseas Marine Export | 0.79
Penver Products (P) Ltd | 0.79
Pijikay International Exports P Ltd | 0.79
Pisces Seafood International | 0.79
Premier Seafoods Exim (P) Ltd | 0.79
Raa Systems Pvt. Ltd | 0.79
Raju Exports | 0.79
Ram's Assorted Cold Storage Ltd | 0.79
Raunaq Ice & Cold Storage | 0.79
Raysons Aquatics Pvt. Ltd | 0.79
Razban Seafoods Ltd | 0.79
RBT Exports | 0.79
Riviera Exports Pvt. Ltd | 0.79
Rohi Marine Private Ltd | 0.79
RVR Marine Products Private Limited | 0.79
S A Exports | 0.79
S Chanchala Combines | 0.79
S & S Seafoods | 0.79
Safa Enterprises | 0.79
Sagar Foods | 0.79
Sagar Grandhi Exports Pvt. Ltd | 0.79
Sagarvihar Fisheries Pvt. Ltd | 0.79
Sai Marine Exports Pvt. Ltd | 0.79
Sai Sea Foods | 0.79
Sai Sea Foods a.k.a. Sai Marine Exports Pvt. Ltd | 0.79
Sandhya Aqua Exports Pvt. Ltd | 0.79
Sandhya Marines Limited | 0.79
Santhi Fisheries & Exports Ltd | 0.79
Satya Seafoods Private Limited | 0.79
Sawant Food Products | 0.79
Seagold Overseas Pvt. Ltd | 0.79
Selvam Exports Private Limited | 0.79
Shippers Exports | 0.79
Shroff Processed Food & Cold ZStorage P Ltd | 0.79
Silver Seafood | 0.79
Sita Marine Exports | 0.79
Sprint Exports Pvt. Ltd | 0.79
Sri Chandrakantha Marine Exports ⁵ | 0.79
Sri Sakkthi Cold Storage | 0.79
Sri Sakthi Marine Products P Ltd | 0.79
Sri Satya Marine Exports | 0.79
Sri Venkata Padmavathi Marine Foods Pvt. Ltd | 0.79
SSF Ltd | 0.79
Star Agro Marine Exports Private Limited | 0.79
Sun Bio-Technology Ltd | 0.79
Suryamitra Exim (P) Ltd | 0.79
Suvarna Rekha Exports Private Limited | 0.79
Suvarna Rekha Marines P Ltd | 0.79
TBR Exports Pvt Ltd | 0.79
Teekay Marine P. Ltd.⁶ | 0.79
The Kadalkanny Group (Kadalkanny Frozen Foods, Edhayam Frozen Foods Pvt. Ltd., Diamond Seafoods Exports, and Theva & Company) | 0.79
The Liberty Group (Devi Marine Food Exports Private Limited/Kader Exports Private Limited/Kader Investment and Trading Company Private Limited/Liberty Frozen Foods Pvt. Ltd./Liberty Oil Mills Ltd./Premier Marine Products/Universal Cold Storage Private Limited) | 0.79
The Waterbase Limited | 0.79
Tejaswani Enterprises | 0.79
Usha Seafoods | 0.79
V.S Exim Pvt Ltd | 0.79
Veejay Impex | 0.79
Victoria Marine & Agro Exports Ltd | 0.79
Vinner Marine | 0.79
Vishal Exports | 0.79
Wellcome Fisheries Limited | 0.79
* De minimis.

Assessment

The Department shall determine, and Customs and Border Protection (CBP) shall assess, antidumping duties on all appropriate entries.

⁴ This rate is based on the weighted average of the margins calculation for those companies selected for individual review, excluding de minimis margins or margins based entirely on adverse facts available (AFA).

⁵ The Department initiated the 2007-2008 administrative review for this company under the name Sri Chandrakantha Marine Exports, Ltd. However, subsequent to the Preliminary Results, we discovered that the company's correct name is Sri Chandrakantha Marine Exports. See Name Clarification Memo. Therefore, we have included this company in our final results under its correct name.

⁶ The Department initiated the 2007-2008 administrative review for this company under the name Teekay Maine P. Ltd. However, subsequent to the Preliminary Results, we discovered that the company's correct name is Teekay Marine P. Ltd. See Name Clarification Memo. Therefore, we have included this company in our final results under its correct name.

Pursuant to 19 CFR 351.212(b)(1), because Devi and Falcon reported the entered value for some or all of their U.S. sales, we have calculated importer-specific ad valorem duty assessment rates based on the ratio of the total amount of antidumping duties calculated for the examined sales to the total entered value of the sales which entered value was reported. For Falcon's U.S. sales reported without entered values, we have calculated importer-specific per-unit duty assessment rates by aggregating the total amount of antidumping duties calculated for the examined sales and dividing this amount by the total quantity of those sales. To determine whether the duty assessment rates are de minimis, in accordance with the requirement set forth in 19 CFR 351.106(c)(2), we have calculated importer-specific ad valorem ratios based on the estimated entered value.

For the companies which were not selected for individual review, we have calculated an assessment rate based on the weighted average of the cash deposit rates calculated for the companies selected for individual review excluding any which are de minimis or determined entirely on AFA.

Pursuant to 19 CFR 351.106(c)(2), we will instruct CBP to liquidate without regard to antidumping duties any entries for which the assessment rate is de minimis (i.e., less than 0.50 percent). The Department intends to issue assessment instructions to CBP 15 days after the date of publication of these final results of review.

The Department clarified its “automatic assessment” regulation on May 6, 2003. See Antidumping and Countervailing Duty Proceedings: Assessment of Antidumping Duties, 68 FR 23954 (May 6, 2003). This clarification will apply to entries of subject merchandise during the POR produced by companies included in these final results of review for which the reviewed companies did not know their merchandise was destined for the United States. In such instances, we will instruct CBP to liquidate unreviewed entries at the all-others rate established in the less-than-fair-value (LTFV) investigation if there is no rate for the intermediate company(ies) involved in the transaction.

Cash Deposit Requirements

Further, the following deposit requirements will be effective for all shipments of shrimp from India entered, or withdrawn from warehouse, for consumption on or after the publication date of the final results of this administrative review, as provided for by section 751(a)(2)(C) of the Act: (1) The cash deposit rates for the reviewed companies will be the rates shown above, except if the rate is less than 0.50 percent, de minimis within the meaning of 19 CFR 351.106(c)(1), the cash deposit will be zero; (2) for previously investigated companies not listed above, the cash deposit rate will continue to be the company-specific rate published for the most recent period; (3) if the exporter is not a firm covered in this review, or the LTFV investigation, but the manufacturer is, the cash deposit rate will be the rate established for the most recent period for the manufacturer of the merchandise; and (4) the cash deposit rate for all other manufacturers or exporters will continue to be 10.17 percent, the all-others rate established in the LTFV investigation. See Notice of Amended Final Determination of Sales at Less Than Fair Value and Antidumping Duty Order: Certain Frozen Warmwater Shrimp from India, 70 FR 5147, 5148 (Feb. 1, 2005). These deposit requirements shall remain in effect until further notice.

Notification to Importers

This notice serves as a final reminder to importers of their responsibility, under 19 CFR 351.402(f)(2), to file a certificate regarding the reimbursement of antidumping duties prior to liquidation of the relevant entries during this review period. Failure to comply with this requirement could result in the Secretary's presumption that reimbursement of antidumping duties occurred and the subsequent assessment of double antidumping duties.

Notification to Interested Parties

This notice serves as the only reminder to parties subject to administrative protective order (APO) of their responsibility concerning the disposition of proprietary information disclosed under APO in accordance with 19 CFR 351.305(a)(3). Timely written notification of return/destruction of APO materials or conversion to judicial protective order is hereby requested. Failure to comply with the regulations and the terms of an APO is a sanctionable violation.

We are issuing and publishing these results of review in accordance with sections 751(a)(1) and 777(i)(1) of the Act.

Dated: July 7, 2009.
Ronald K. Lorentzen,
Acting Assistant Secretary for Import Administration.

Appendix—Issues in Decision Memorandum

General Issues

1. Offsetting of Negative Margins

2. Using U.S. CBP Data for Respondent Selection

3. The Calculation of the Assessment Rate Assigned to Companies Receiving the Review-Specific Average Rate

4. Model Matching Methodology

Company-Specific Issues

5. The Calculation of Falcon's General and Administrative Expense Ratio

[FR Doc. E9-16516 Filed 7-10-09; 8:45 am]

BILLING CODE 3510-DS-P